DEPARTMENT OF TRANSPORTATION

Federal Aviation Administration

RTCA Program Management Committee

AGENCY: Federal Aviation Administration (FAA), DOT.

ACTION: Notice of RTCA Program Management Committee meeting.

SUMMARY: The FAA is issuing this notice to advise the public of a meeting of the RTCA Program Management Committee.

DATES: The meeting will be held June 19, 2008 starting at 9 a.m.

ADDRESSES: The meeting will be held at RTCA, Inc., 1828 L Street, NW., Suite 805, Washington, DC 20036.

FOR FURTHER INFORMATION CONTACT: RTCA Secretariat, 1828 L Street, NW., Suite 850, Washington, DC, 20036; telephone (202) 833-9339; fax (202) 833-9434; Web site http://www.rtca.org.

SUPPLEMENTARY INFORMATION: Pursuant to section 10(a) (2) of the Federal Advisory Committee Act (Pub. L. 92-463, 5 U.S.C., Appendix 2), notice is hereby given for a Program Management Committee meeting. The agenda will include:

• June 19:

• Opening Session (Welcome and Introductory Remarks, Review/Approve Summary of December 6, 2007 Meeting, Paper No. 092-08/PMC-618).

• Publication Consideration/Approval:

• Final Draft, New Document, Minimum Operational Performance Standards for Traffic Alert and Collision Avoidance Systems II (TCASII), RTCA Paper No. 102-08/PMC-619, prepared by SC-147.

• Final Draft, Revised DO-230A, Integrated Security Systems Standard for Airport Access Control, RTCA Paper 121-08/PMC-622, prepared by SC-207.

• Final Draft, New Document, Safety, Performance and Interoperability Requirements Document for the In-trial Procedure in Oceanic Airspace (ATSA-ITP) Application, RTCA Paper No. 122-08/PMC-623, prepared by SC 186.

• Discussion:

• Attitude and Heading Reference System (AHRS)—Discussion—Possible New Special Committee.

• Automatic Flight Guidance and Control—Discussion—Possible New Special Committee SC.

• Airport Surface Wireless Link—Discussion—Possible New Special Committee.

• Special Committee Chairman's Reports.

• Action Item Review:

• SC-203—Unmanned Aircraft Systems (UAS)—Discussion—Status Review.

• SC-205—Software Consideration—Discussion—Terms of Reference.

• SC-214—Standards for Air Traffic Data Communications Services Discussion—Review/Approve Terms of Reference.

Closing Session (Other Business, Document Production, Date and Place of Next Meeting, Adjourn).

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on May 28, 2008.
Francisco Estrada C.,
RTCA Advisory Committee.

[FR Doc. E8-12350 Filed 6-3-08; 8:45 am]

BILLING CODE 4910-13-M